DEPARTMENT OF HOUSING AND URBAN DEVELOPMENT

[Docket No. FR-4562-N-05

Notice of Proposed Information Collection for Public Comment: Assessing the Effectiveness of HUD2020 Management Reforms—Public Knowledge of Fair Housing Issues

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: July 11, 2000.

ADDRESSES: Interested persons are invited to submit comments regarding this proposal. Comments should refer to the proposal by name and should be sent to: Reports Liaison Officer, Office of Policy Development and Research, Department of Housing and Urban Development, 451 Seventh Street, SW, Room 8226, Washington, DC 20410.

FOR FURTHER INFORMATION CONTACT: Paul B. Dornan, Department of Housing and Urban Development, 451 7th Street, SW, Washington, DC 20410; telephone (202) 708-0574, extension 4486 (this is not a toll-free number). Copies of the proposed data collection instruments and other available documents may be obtained from Mr. Dornan.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Assessing the Effectiveness of HUD2020 Management Reforms.

Description of the need for the information and proposed use: The Department is conducting under contract an assessment of the impact of the management reforms that the Department has implemented collectively under the name “HUD2020”. As part of this analysis, the Department proposes to undertake biennial surveys of public knowledge of fair housing issues and law. These surveys will permit the Department to gauge HUD's performance against its goal of ensuring equal opportunity in housing for all Americans and, in particular, the objective of increasing the share of the American population with adequate awareness of fair housing law. The proposed information collection will include the baseline survey and the first follow-on administration of the survey two years thereafter.

Members of affected public: A sample generalizable to and representative of the nation's adult population.

Estimation of the total numbers of hours needed to prepare the information collection including number of respondents, frequency of response, and hours of response: The researchers will administer a baseline survey to 1500 randomly selected members of the American adult population; two years thereafter, the same survey will be administered to another sample of 1500 from the same universe; the surveys are expected to last 7 minutes each, for a total of 175 hours of response each time and, therefore, a total of 350 hours.

Status of the proposed information collection: Pending OMB approval.

Authority: Section 3506 of the Paperwork Reduction Act of 1995, 44 U.S.C. Chapter 35, as amended.

Dated: May 4, 2000.
Lawrence L. Thompson,
Deputy Assistant Secretary for Policy Development.

[FR Doc. 00-11895 Filed 5-11-00; 8:45 am]

BILLING CODE 4210-62-M